FEDERAL RETIREMENT THRIFT INVESTMENT BOARD

Sunshine Act; Notice of Meeting

TIME AND DATE: 10:00 a.m. (Eastern Time) December 14, 2015 (Telephonic).

PLACE: 10th Floor Board Meeting Room, 77 K Street NE., Washington, DC 20002.

STATUS: Parts will be open to the public and parts will be closed to the public.

MATTERS TO BE CONSIDERED:

Open to the Public

1. Approval of the Minutes for the November 25, 2015 Board Member Meeting

2. Monthly Reports

(a) Monthly Participant Activity Report

(b) Monthly Investment Performance Report

(c) Legislative Report

3. Quarterly Metrics Report

4. OGC Report and Annual Presentation

Closed to the Public

5. Security

FOR FURTHER INFORMATION CONTACT: Kimberly Weaver, Director, Office of External Affairs, (202) 942-1640.

Dated: December 4, 2015.
Megan Grumbine,
Deputy General Counsel, Federal Retirement Thrift Investment Board.

[FR Doc. 2015-31031 Filed 12-4-15; 4:15 pm]

BILLING CODE 6760-01-P